DEPARTMENT OF THE INTERIOR

Bureau of Land Management

[NM-952-07-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey and subdivision of sections in Township 31 North, Range 1 West, accepted December 18, 2006, for Group 1020 New Mexico.

The plat representing the dependent resurvey and subdivision of sections for Township 31 North, Range 1 East, accepted December 18, 2006 for Group 1020 New Mexico.

The plat representing the dependent resurvey for Township 17 South, Range 30 East, accepted August 23, 2006 for Group 1055 New Mexico.

The plat in four sheets representing the resurvey and subdivision of sections for Township 26 South, Range 28 East, accepted September 18, 2006 for Group 923 New Mexico.

The Supplement Plat, representing the subdivision of sections for Township 9 North, Range 4 West, accepted September 27, 2006 for New Mexico.

The plat representing the dependent resurvey for Township 16 North, Range 11 East, accepted September 29, 2006 for Group 908 New Mexico.

The plat in two sheets representing the dependent resurvey and survey for Township 15 North, Range 16 West, accepted November 28, 2006 for Group 1029 New Mexico.

Indian Meridian, Oklahoma

The plat representing the dependent resurvey for Township 24 North, Range 8 East, accepted September 11, 2006 for Group 130 Oklahoma.

The plat representing the dependent resurvey for Township 3 South, Range 2 East, accepted September 12, 2006 for Group 135 Oklahoma.

The plat representing the dependent resurvey for Township 8 South, Range 2 West, accepted September 18, 2006 for Group 133 Oklahoma.

The plat representing the dependent resurvey for Township 10 North, Range 7 East, accepted September 28, 2006 for Group 109 Oklahoma.

The plat representing the dependent resurvey for Township 3 North, Range 21 East, accepted September 28, 2006 for Group 124 Oklahoma.

The plat representing the dependent resurvey for Township 12 North, Range 18 West, accepted September 11, 2006 for Group 140 Oklahoma.

The plat representing the dependent resurvey for Township 8 North, Range 15 East, accepted September 29, 2006 for Group 117 Oklahoma.

The plat representing the dependent resurvey for Township 9 North, Range 15 East, accepted September 29, 2006 for Group 118 Oklahoma.

The plat representing the dependent resurvey for Township 4 North, Range 21 East, accepted September 26, 2006 for Group 123 Oklahoma.

The plats in three sheets, representing the dependent resurvey and survey for Township 8 North, Range 14 West, accepted September 28, 2006 for Group 79 Oklahoma.

The plat representing the dependent resurvey for Township 7 North, Range 14 West, accepted September 28, 2006 for Group 79 Oklahoma.

The plat representing the dependent resurvey for Township 19 North, Range 13 West, accepted December 13, 2006 for Group 138 Oklahoma.

The plat representing the dependent resurvey for Township 5 South, Range 3 West, accepted September 28, 2006 for Group 134 Oklahoma.

The plat representing the dependent resurvey for Township 21 North, Range 9 East, accepted September 28, 2006 for Group 129 Oklahoma.

The plat in two sheets, representing the dependent resurvey and survey for Township 21 North, Range 8 East, accepted September 28, 2006 for Group 129 Oklahoma.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, and P.O. Box 27115, Santa Fe, New Mexico 87502-0115. Copies may be obtained from this office upon payment of $1.10 per sheet.

Dated: January 30, 2007.
Robert A. Casias,
Chief Cadastral Surveyor, New Mexico.

[FR Doc. 07-583 Filed 2-12-07; 8:45 am]

BILLING CODE 4310-FB-M